DEPARTMENT OF DEFENSE

Department of the Army

Notice of Availability (NOA) of the Record of Decision (ROD) for Disposal of Chemical Weapons at the Pueblo Chemical Depot (PCD), Colorado

AGENCY: Department of the Army, DoD.

ACTION: Notice of availability.

SUMMARY: This announces the availability of the ROD for the design, construction, and operation of a facility for the destruction of chemical agents at the PCD. The ROD documents and explains the Defense Acquisition Executive's decision to select chemical neutralization followed by biotreatment for the destruction of the mustard chemical agent stored at the PCD. A variety of factors were considered in making this decision, including, but not limited to, mission needs, cost, schedule, environmental considerations, public concerns, and compliance with the Chemical Weapons Convention.

ADDRESSES: To obtain a copy of the ROD, contact the Program Manager for Chemical Demilitarization, Public Outreach and Information Office (ATTN: Ms. Sandra Clawson-Freeo), Building E-4585, Aberdeen Proving Ground, Maryland 21010-4005.

FOR FURTHER INFORMATION CONTACT: Ms. Sandra Clawson-Freeo at 410-436-1479, by fax at 410-436-5122, by electronic mail at Sandra.Clawson-Freeo@pmcd,apgea,army.mil or by mail at the above listed address.

SUPPLEMENTARY INFORMATION: In its ROD on February 26, 1988 (53 FR 5816, February 26, 1988) for the Final Programmatic Environmental Impact Statement (EIS) on the Chemical Stockpile Disposal Program (CSDP), the Department of the Army selected on-site disposal by incineration at all eight chemical munition storage sites located within the continental United States as the method by which it will destroy its lethal chemical stockpile. The Department of the Army published a Notice of Intent in the Federal Register (65 FR 20140-41, April 14, 2000) which provides notice that, pursuant to the National Environmental Policy Act (NEPA) and implementing regulations, it was preparing a draft site-specific EIS for the Pueblo Chemical Agent Disposal Facility. On May 11, 2001, the Army published a Draft EIS to assess the site-specific health and environmental impacts of on-site disposal of the chemical agents and munitions stored at the PDC. The Final EIS was published on April 17, 2002. All public comments received during the NEPA process have been considered in making this decision.

The Program Manager for Assembled Chemical Weapons Assessment (ACWA) prepared a separate EIS. The ACWA EIS is for follow-on pilot testing of the ACWA Program pursuant to the process established by Congress in Public Laws 104-208 and 105-261. The ACWA EIS emphasizes the feasibility of pilot testing one or more of the ACWA technologies at one of more sites. One of the four sites evaluated in the ACWA EIS was the PCD. Information provided by the ACWA Program concerning the neutralization technologies provided the basis for analysis of the neutralization technologies and comparison with incineration in this site-specific EIS for stockpile destruction at Pueblo. This site-specific EIS and the ACWA EIS serve complementary purposes.

Dated: August 21, 2002.
Raymond J. Fatz,
Deputy Assistant Secretary of the Army (Environment, Safety and Occupational Health, OASA(I&E).

[FR Doc. 02-21874 Filed 8-27-02; 8:45 am]

BILLING CODE 3710-08-M